DEPARTMENT OF THE INTERIOR

Office of the Secretary

[Docket No. ONRR-2012-0003; DS63642000 DR2PS0000.CH7000 167D0102R2]

U.S. Extractive Industries Transparency Initiative Advisory Committee Charter Renewal

AGENCY: Policy, Management and Budget, Interior.

ACTION: Notice.

SUMMARY: The Secretary of the Interior is giving notice of the renewal of the United States Extractive Industries Transparency Initiative (USEITI) Federal Advisory Committee (Committee) to advise the Department on the implementation of the Extractive Industries Transparency Initiative, which requires governments to publicly disclose their revenues from oil, gas, and mining assets and for companies to make parallel disclosures regarding payments.

FOR FURTHER INFORMATION CONTACT: Ms. Kim Oliver, USEITI Secretariat; 1849 C Street NW., MS-4211, Washington, DC 20240. You may also contact the USEITI Secretariat via email at useiti@ios.doi.gov, by phone at (202) 208-0272, or by fax at (202) 513-0682.

SUPPLEMENTARY INFORMATION: The U.S. Department of the Interior established the USEITI Advisory Committee on July 26, 2012. The Committee serves as the Multi-Stakeholder Group and its duties include consideration and fulfillment of the tasks required to achieve and maintain EITI-compliant status. More information about the Committee, including its charter, can be found at www.doi.gov/eiti/faca.

CERTIFICATION

CERTIFICATION STATEMENT: I hereby certify that the U.S. Extractive Industries Transparency Initiative Advisory Committee is necessary, is in the public interest, and is established under the authority of the Secretary of the Interior, in support of the Open Government Partnership and the commitment in the United States' National Action Plan to implement the Extractive Industries Transparency Initiative.

Dated: August 3, 2016.
Sally Jewell,
Secretary of the Interior.

[FR Doc. 2016-19298 Filed 8-12-16; 8:45 am]

BILLING CODE 4335-30-P